DEPARTMENT OF AGRICULTURE

Submission for OMB Review; Comment Request

March 9, 2021.

The Department of Agriculture has submitted the following information collection requirement(s) to Office of Management and Budget (OMB) for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by April 12, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: Technical Assistance and Training and Training for Innovative Regional Wastewater Treatment Solutions (TAT/RWTS) Pilot Grant Program.

OMB Control Number: 0572-0157.

Summary of Collection: Rural Utilities Services (RUS), a Rural Development agency of the United States Department of Agriculture (USDA), announces the availability of up to $5 million in competitive grants to eligible entities to fund a new pilot program. This pilot program, called the Technical Assistance and Training for Innovative Regional Wastewater Treatment Solutions (TAT/RWTS) Grant Pilot Program, was authorized by the Further Consolidated Appropriations Act, 2020, for the study and design of innovative treatment solutions of regional wastewater systems for historically impoverished communities that have had difficulty installing traditional wastewater treatment systems due to soil conditions.

Need and Use Of the Information: Qualified regional consortiums will receive TAT/RWTS grant funds to identify and evaluate economically feasible, innovative regional solutions to wastewater treatment concerns for historically impoverished communities in areas which have had difficulty installing traditional wastewater treatment systems due to soil conditions. Grants are for wastewater-related technical assistance, including such services as feasibility studies, preliminary design assistance and supervision, oversight, or training for the development of an application for financial assistance.

Grantees will be expected to provide the Agency with a detailed report to include the area to be served, the issues with the present method of wastewater discharge, the alternatives and innovative solutions to the wastewater issue, the long-term cost and effect of the solution, the affordability including possible funding sources, potential treatment, staff training needs, and lifecycle cost analysis.

Description of Respondents: Not-for-profit institutions.

Number of Respondents: 9.

Frequency of Responses: Reporting: On occasion.

Total Burden Hours: 647.

Levi S. Harrell,
Departmental Information Collection Clearance Officer.

[FR Doc. 2021-05167 Filed 3-11-21; 8:45 am]

BILLING CODE 3410-15-P